ENVIRONMENTAL PROTECTION AGENCY

40 CFR Part 52

[EPA-R10-OAR-2011-0003; FRL-9316-9]

Approval and Promulgation of Implementation Plans; Oregon; Interstate Transport of Pollution; Significant Contribution to Nonattainment and Interference With Maintenance Requirements

AGENCY: Environmental Protection Agency (EPA).

ACTION: Final rule.

SUMMARY: EPA is approving a portion of the State Implementation Plan (SIP) revision submitted by the State of Oregon for the purpose of addressing certain provisions of the interstate transport provisions of Clean Air Act (CAA) section 110(a)(2)(D)(i)(I) for the 1997 8-hour ozone National Ambient Air Quality Standards (NAAQS or standards) and the 1997 fine particulate matter (PM2.5) NAAQS. Section 110(a)(2)(D)(i) of the CAA requires that each State have adequate provisions to prohibit air emissions from adversely affecting air quality in other States through interstate transport. EPA is taking final action to approve Oregon's SIP revision for the 1997 8-hour ozone NAAQS and 1997 PM2.5 NAAQS as meeting the requirements of CAA section 110(a)(2)(D)(i)(I) to prohibit emissions that will contribute significantly to nonattainment of the these standards in any other State and to prohibit emissions that will interfere with maintenance of these standards by any other State.

DATES: Effective Date: This action is effective on July 11, 2011.

ADDRESSES: Copies of the State's SIP revision and other information supporting this action are available for inspection at EPA Region 10, Office of Air, Waste, and Toxics (AWT-107), 1200 Sixth Avenue, Suite 900, Seattle, Washington 98101.

FOR FURTHER INFORMATION CONTACT: Donna Deneen, EPA Region 10, Office of Air, Waste, and Toxics (AWT-107), 1200 Sixth Avenue, Seattle, Washington 98101, or at (206) 553-6706.

SUPPLEMENTARY INFORMATION: Throughout this notice, the words “we”, “us”, or “our” means the Environmental Protection Agency (EPA).

Table of Contents

I. What action is EPA taking?

II. What is the background for this action?

III. Public Comments on the Proposed Action

IV. Final Action

V. Statutory and Executive Order Reviews

I. What action is EPA taking?

EPA is approving a portion of Oregon's Interstate Transport State Implementation Plan (SIP) revision for the 1997 8-hour ozone NAAQS and 1997 PM2.5 NAAQS submitted by the Oregon Department of Environmental Quality (ODEQ) on June 23, 2010 and December 23, 2010. Specifically, we are approving the portion of the interstate transport SIP revision that addresses the following elements of CAA section 110(a)(2)(D)(i): (1) Significant contribution to nonattainment of these NAAQS in any other state; and (2) interference with maintenance of these NAAQS by any other state. EPA will address element (3), interference with any other state's required measures to prevent significant deterioration (PSD) of its air quality; and element (4), interference with any other state's required measures to protect visibility in separate actions.¹ This action does not address the requirements of the 2006 PM2.5 NAAQS or the 2008 8-hour ozone NAAQS; those standards will be addressed in future actions.

¹ On March 8, 2011, EPA proposed to approve the Oregon interstate transport SIP provisions addressing interference with any other state's required measures to protect visibility. See 76 FR 12651 (March 8, 2011).

II. What is the background for this action?

On July 18, 1997, EPA promulgated new standards for 8-hour ozone and fine particulate matter (PM2.5). Section 110(a)(1) of the CAA requires states to submit SIPs to address a new or revised NAAQS within three years after promulgation of such standards, or within such shorter period as EPA may prescribe. Section 110(a)(2) lists the elements that such new SIPs must address, as applicable, including section 110(a)(2)(D)(i) which pertains to interstate transport of certain emissions.

On June 23, 2010, the State of Oregon submitted a SIP revision addressing the requirements of section 110(a)(2)(D)(i) for both the 1997 8-hour ozone NAAQS and 1997 PM2.5 NAAQS. In this rulemaking EPA is addressing the first two elements of section 110(a)(2)(D)(i): (1) Significant contribution to nonattainment of these NAAQS in any other state, and (2) interference with maintenance of these NAAQS by any other state. On April 7, 2011, EPA published a proposal to approve the portion of Oregon's SIP submission that addresses these two elements. 76 FR 19292.

III. Public Comments on the Proposed Action

EPA provided a 30-day review and comment period and solicited comments on our proposal published on April 7, 2011. 76 FR 19292. EPA received no comments on this proposed action.

IV. Final Action

EPA is approving the revisions to the Oregon SIP as discussed in our proposed action and concludes that for the 1997 8-hour ozone NAAQS and 1997 PM2.5 NAAQS, air pollutant emissions from sources within Oregon do not either (1) significantly contribute to nonattainment of the NAAQS in any other state; or (2) interfere with maintenance of the NAAQS by any other state.

As noted previously, EPA will address element (3) interference with any other state's required measures to prevent significant deterioration of its air quality and element (4), interference with any other state's required measures to protect visibility, in a separate action. EPA will also take action on the portion of Oregon's SIP that addresses the 2006 PM2.5 NAAQS and the 2008 8-hour ozone NAAQS in a separate action.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the state, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 8, 2011. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 27, 2011.
Michelle L. Pirzadeh,
Acting Regional Administrator Region 10.

Chapter I, title 40 of the Code of Federal Regulations is amended as follows:

PART 52—[AMENDED]

1. The authority citation for part 52 continues to read as follows:

Authority: 42 U.S.C. 7401 et seq.

Subpart MM—Oregon

2. Section 52.1989 is added to read as follows:

§ 52.1989 Interstate Transport for the 1997 8-hour ozone NAAQS and 1997 PM2.5 NAAQS.

(a) On June 23, 2010 and December 23, 2010, the Oregon Department of Environmental Quality submitted a SIP revision, adopted by the Oregon Environmental Quality Commission on April 30, 2010, to meet the requirements of Clean Air Act section 110(a)(2)(D)(i). EPA approves the portion of this submittal relating to significant contribution to nonattainment of the NAAQS in any other state and interference with maintenance of the NAAQS by any other state.

(b) [Reserved.]

[FR Doc. 2011-14199 Filed 6-8-11; 8:45 am]

BILLING CODE 6560-50-P